DEPARTMENT OF ENERGY

Federal Energy Regulatory Commission

[Docket No. RP00-307-000]

U-T Offshore System, L.L.C.; Notice of Compliance Filing

June 5, 2000.

Take notice that on May 31, 2000, U-T Offshore System, L.L.C. (U-TOS) tendered for filing as part of its FERC Gas Tariff, Fourth Revised Volume No. 1, the following tariff sheets to be effective September 28, 1999:

First Revised Sheet No. 56

First Revised Sheet No. 57

First Revised Sheet No. 60

First Revised Sheet No. 61

Original Sheet No. 61A

First Revised Sheet No. 95

First Revised Sheet No. 96

First Revised Sheet No. 97

U-TOS states that the instant filing incorporates and properly paginates in UTOS' current tariff changes that were pending at the time UTOS' conversion tariff filing was being approved.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14568 Filed 6-8-00; 8:45 am]

BILLING CODE 6717-01-M